DEPARTMENT OF STATE

22 CFR Part 62

[Public Notice 6277]

Exchange Visitor Program—Au Pairs; Correction

AGENCY: Department of State.

ACTION: Interim final rule; correction.

SUMMARY: This document contains a correction to an interim final rule published on Thursday, June 19, 2008 (73 FR 34861). The Department of State published a document in the Federal Register on June 19, 2008, concerning Regulations regarding Exchange Visitor Program—Au Pairs. The published document contained an incorrect effective date.

FOR FURTHER INFORMATION CONTACT: Stanley Colvin, 202-203-7415.

Correction

In the Federal Register of June 19, 2008, FR DOC E8-13796, on page 34861, in the second column, correct the “DATES” caption to read:

DATES: This rule is effective July 21, 2008. The Department will accept comments from the public up to July 21, 2008.

Dated: June 19, 2008.
Stanley S. Colvin,
Director, Office of Exchange Coordination and Designation, Department of State.

[FR Doc. E8-14780 Filed 6-27-08; 8:45 am]

BILLING CODE 4710-05-P